INTERNATIONAL TRADE COMMISSION

[Investigations Nos. 701-TA-441 and 731-TA-1081 (Preliminary)]

Silicon Metal From Brazil and South Africa

AGENCY: International Trade Commission.

ACTION: Notice of withdrawal of petition in countervailing duty and antidumping investigations.

SUMMARY: On April 16, 2004, the Department of Commerce and the Commission received a letter from petitioners in the subject investigations (Globe Metallurgical Inc., Beverly, OH; the International Union of Electronic, Electrical, Salaried, Machine and Furniture Workers, I.U.E.-C.W.A., AFL-CIO, C.L.C., Local 693; and the United Steelworkers of America, AFL-CIO, Local 9436) withdrawing their petition. Commerce has not initiated investigations as provided for in sections 702(c) and 732(c) of the Tariff Act of 1930 (19 U.S.C. 1671a(c) and 1673a(c)). Accordingly, the Commission gives notice that its countervailing duty and antidumping investigations concerning silicon metal from Brazil and South Africa (investigations No. 701-TA-441 (Preliminary) and 731-TA-1081 (Preliminary)) are discontinued.

EFFECTIVE DATE: April 16, 2004.

FOR FURTHER INFORMATION CONTACT: Larry Reavis (202-205-3185), Office of Investigations, U.S. International Trade Commission, 500 E Street, SW., Washington, DC 20436. Hearing-impaired individuals are advised that information on this matter can be obtained by contacting the Commission's TDD terminal on 202-205-1810. Persons with mobility impairments who will need special assistance in gaining access to the Commission should contact the Office of the Secretary at 202-205-2000.

General information concerning the Commission may also be obtained by accessing its Internet server (http://www.usitc.gov). The public record for these investigations may be viewed on the Commission's electronic docket (EDIS) at http://edis.usitc.gov.

By order of the Commission.
Issued: April 23, 2004.
Marilyn R. Abbott,
Secretary to the Commission.

[FR Doc. 04-9613 Filed 4-27-04; 8:45 am]

BILLING CODE 7020-02-P